DEPARTMENT OF ENERGY

Federal Energy Regulatory Commission

[Docket No. AC04-105-000, et al.]

Access Energy Cooperative, et al.; Electric Rate and Corporate Filings

September 23, 2004.

The following filings have been made with the Commission. The filings are listed in ascending order within each docket classification.

1. Access Energy Cooperative

[Docket No. AC04-105-000]

Between June 21, 2004 and September 2, 2004, the above-referenced electric cooperatives filed motions that requested a waiver or exemption from the requirements of Order No. 646. 106 FERC ¶ 61,113 (2003). Interested parties may file a petition to intervene in each individual docket.

Comment Date: 5 p.m. eastern standard time on October 7, 2004.

2. Llano Estacado Wind, LP

[Docket No. EG04-102-000]

Take notice that on September 20, 2004, Llano Estacado Wind, LP (Applicant) filed with the Commission an application for redetermination of exempt wholesale generator status pursuant to section 32(a)(1) of the Public Utility Holding Company Act of 1935 and Part 365 of the Commission's regulations. Applicant states that it is a limited partnership organized under the laws of the State of Texas that is engaged directly and exclusively in owning and operating an 80 MW wind-powered electric generating facility located near White Deer, Texas (Facility) and in selling electric energy at wholesale from the Facility.

Comment Date: 5 p.m. eastern standard time on October 12, 2004.

3. Michigan Electric Transmission Company, LLC

[Docket Nos. ER01-2126-009 and ER01-2375-008]

Take notice that on September 22, 2004, Michigan Electric Transmission Company, LLC (METC) submitted a compliance filing pursuant to the Commission's order issued August 23, 2004 in Docket Nos. ER01-2126-005, et al., 108 FERC ¶ 61,205.

METC states that it has served a copy of its filing on both Renaissance Power, LLC and New Covert Generating Company, LLC.

Comment Date: 5 p.m. eastern standard time on October 13, 2004.

4. Credit Suisse First Boston International

[Docket No. ER01-2656-002]

Take notice that on September 20, 2004, Credit Suisse First Boston International (CSFBI) tendered for filing a triennial market power analysis pursuant to the Commission's orders granting CSFBI market-based rate authority. CSFBI also submitted for Commission acceptance a revised market-based rate tariff that incorporates the Commission's new market behavior rules adopted in Investigation of Terms and Conditions of Public Utility Market-Based Rate Authorizations, 105 FERC ¶ 61,218 (2003) and includes provisions to allow CSFBI to engage in sales of ancillary services at market-based rates under terms and conditions consistent with those approved by the Commission. CSFBI states that the filing also revises CSFBI's market-based rate tariff to comply with the Commission's tariff formatting rules established in Order No. 614.

CSFBI states that a copy of this filing was served on the New York State Public Service Commission, Pennsylvania Public Utility Commission, the Connecticut Department of Public Utility Control, the New Jersey Board of Public Utilities, the Massachusetts Department of Telecommunications and Energy and the Maine Public Utilities Commission.

Comment Date: 5 p.m. eastern standard time on October 12, 2004.

5. California Electric Marketing, LLC

[Docket No. ER01-2690-002]

Take notice that on September 21, 2004, California Electric Marketing, LLC, (CalEM), submitted for filing its triennial updated market analysis and revisions to its FERC Rate Schedule No. 1 to incorporate the Market Behavior Rules set forth in the Commission's orders issued November 17, 2003 and May 19, 2004 in Docket Nos. EL01-118-000, EL01-118-001, and EL01-118-003, Investigation of Terms and Conditions of Public Utility Market-Based Rate Authorizations, 105 FERC ¶ 61,218 (2003), order on reh'g, 107 FERC ¶ 61,175 (2004). CalEM requests an effective date of September 22, 2004.

Comment Date: 5 p.m. eastern standard time on October 12, 2004 .

6. FortisOntario, Inc., FortisUS Energy Corporation

[Docket No. ER03-775-002, Docket No. ER00-136-001]

Take notice that on September 20, 2004, FortisOntario, Inc. (FortisOntario) and FortisUS Energy Corporation (FortisUS), submitted their updated market power analysis. FortisUS Energy Corporation also filed amendments to its market-based rate tariff to incorporate the Commission's Market Behavior Rules, to comply with the Commission's Order No. 614, and to adjust for certain recent changes in the New York Independent System Operator and ISO New England Inc. markets.

FortisOntario states that copies of the filing were served upon FortisOntario, Inc. and FortisUS Energy Corporation's jurisdictional customers.

Comment Date: 5 p.m. eastern standard time on October 12, 2004.

7. Southern California Edison Company

[Docket No. ER04-1235-000]

Take notice that on September 21, 2004, Southern California Edison Company (SCE) submitted for filing a Service Agreement for Wholesale Distribution Service (WDAT Service Agreement), Service Agreement No. 125 under the Wholesale Distribution Access Tariff, FERC Electric Tariff, First Revised Volume No. 5, between SCE and the City of Corona, California (Corona). SCE states that the purpose of the WDAT Service Agreement is to specify the terms and conditions under which SCE will provide Wholesale Distribution Service from the California Independent System Operator Controlled Grid at SCE's Mira Loma Substation to a SCE-Corona 12 kV interconnection serving a new development known as Corona Dos Lagos.

SCE states that copies of the filing were served upon the Public Utilities Commission of the State of California and Corona.

Comment Date: 5 p.m. eastern standard time on October 12, 2004.

8. Southern Company Services, Inc.

[Docket No. ER04-1236-000]

Take notice that on September 21, 2004, Southern Company Services, Inc., (SCS) acting on behalf of Alabama Power Company, Georgia Power Company, Gulf Power Company, Mississippi Power Company, and Savannah Electric and Power Company (collectively referred to as Operating Companies), submitted for filing replacement tariff sheets concerning the accrual of post-retirement benefits other than pensions as set forth in Statement of Financial Accounting Standard No. 106 by the Financial Accounting Standards Board in agreements and tariffs of the Operating Companies (jointly and individually).

Comment Date: 5 p.m. eastern standard time on October 12, 2004.

9. LSP Energy Limited Partnership

[Docket No. ER98-2259-004]

Take notice that on September 21, 2004, LSP Energy Limited Partnership (LSP Energy) filed with the Commission a notice of change in status in connection with the sale by Granite II Holding, LLC to CEP Batesville Acquisition, LLC of all of the issued and outstanding membership interests in LSP Batesville Holding, LLC.

Comment Date: 5 p.m. eastern standard time on October 12, 2004.

10. MDU Resources Group, Inc.

[Docket No. ES04-50-000]

Take notice that on September 17, 2004, MDU Resources Group, Inc. (MDU Resources) submitted an application pursuant to section 204 of the Federal Power Act seeking authorization to issue a combination of securities not to exceed $750 million in the aggregate and not to exceed the following amounts:

(1) $750,000,000 worth of common stock;

(2) $112,500,000 worth of preferred stock;

(3) $262,500,000 worth of new mortgage bonds, new senior notes, other secured debt securities, subordinated and unsubordinated unsecured debentures, debt securities, notes, or other evidences of indebtedness and/or guarantees from time to time;

(4) $262,500,000 worth of other stock purchase contracts, stock purchase units, and/or warrants; and

(5) $262,500,000 worth of other securities, including, without limitation, hybrid securities and any related guarantees.

MDU Resources also requests a waiver from the Commission's competitive bidding and negotiated placement requirements at 18 CFR 34.2.

Comment Date: 5 p.m. eastern standard time on October 7, 2004.

11. Wells Rural Electric Company

[Docket No. ES04-51-000]

Take notice that on September 17, 2004, Wells Rural Electric Company (Wells) submitted an application pursuant to section 204 of the Federal Power Act seeking authorization to issue short-term debt in the form of a perpetual line of credit from the National Rural Utilities Cooperative Finance Corporation (CFC) in an amount not to exceed $3,500,000.

Wells also requests a waiver from the Commission's competitive bidding and negotiated placement requirements at 18 CFR 34.2.

Comment Date: 5 p.m. eastern standard time on October 13, 2004.

Standard Paragraph

Any person desiring to intervene or to protest this filing must file in accordance with Rules 211 and 214 of the Commission's Rules of Practice and Procedure (18 CFR 385.211 and 385.214). Protests will be considered by the Commission in determining the appropriate action to be taken but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2457 Filed 9-30-04; 8:45 am]

BILLING CODE 6717-01-P